DEPARTMENT OF COMMERCE

National Oceanic and Atmospheric Administration

[I.D. 012000B]

South Atlantic Fishery Management Council; Public Meeting

AGENCY: National Marine Fisheries Service (NMFS), National Oceanic and Atmospheric Administration (NOAA), Commerce.

ACTION: Notice of public meeting.

SUMMARY: The South Atlantic Fishery Management Council (Council) will convene a meeting of the Council/Atlantic States Marine Fisheries Commission's Red Drum Stock Assessment Group (Group).

DATES: The meeting will be held on February 22, 2000, from 8:30 a.m. and will conclude by 5:00 p.m.

ADDRESSES: The meeting will be held at the Town and Country Inn, 2008 Savannah Highway (US 17), Charleston, SC; telephone: (843) 571-1000 or 1-800-334-6660.

Council address: South Atlantic Fishery Management Council, One Southpark Circle, Suite 306; Charleston, SC 29407-4699.

FOR FURTHER INFORMATION CONTACT: Kim Iverson, Public Information Officer; telephone: (843) 571-4366; fax: (843) 769-4520; email: kim.iverson@noaa.gov.

SUPPLEMENTARY INFORMATION: The purpose of the meeting is to evaluate a stock assessment on the status of the red drum stocks in the Atlantic prepared by NMFS in cooperation with the South Atlantic states. The Group will consider available information, including but not limited to, commercial and recreational catches, natural and fishing mortality estimates, recruitment, fishery-dependent and fishery-independent data, and data needs. These analyses will be used to determine the condition of the stocks. Currently, it is illegal to harvest or possess red drum in Atlantic Federal waters.

Although non-emergency issues not contained in this agenda may come before the Council for discussion, those issues may not be the subject of formal action during these meetings. Action will be restricted to those issues specifically identified in the notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the Council office (see ADDRESSES) by February 7, 2000.

Dated: January 27, 2000.
Bruce C. Morehead,
Acting Director, Office of Sustainable Fisheries, National Marine Fisheries Service.

[FR Doc. 00-2131 Filed 1-31-00; 8:45 am]

BILLING CODE 3510-22-F